DEPARTMENT OF COMMERCE

International Trade Administration

[A-580-809]

Certain Circular Welded Non-Alloy Steel Pipe From the Republic of Korea: Final Affirmative Determination of Circumvention of the Antidumping Duty Order

AGENCY: Enforcement and Compliance, International Trade Administration, Department of Commerce.

SUMMARY: The U.S. Department of Commerce (Commerce) determines that imports of certain circular welded non-alloy steel pipe (CWP), completed in the Socialist Republic of Vietnam (Vietnam) using hot-rolled steel (HRS) produced in the Republic of Korea (Korea), are circumventing the antidumping duty (AD) order on CWP from Korea.

DATES: Applicable November 9, 2023.

FOR FURTHER INFORMATION CONTACT: Andre Gziryan, AD/CVD Operations, Office I, Enforcement and Compliance, International Trade Administration, U.S. Department of Commerce, 1401 Constitution Avenue NW, Washington, DC 20230; telephone: (202) 482-2201.

SUPPLEMENTARY INFORMATION:

Background

On November 2, 1992, Commerce published in the Federal Register the AD order on CWP from Korea.¹ On August 4, 2022, Commerce initiated a country-wide circumvention inquiry to determine whether certain imports of CWP completed in Vietnam using HRS produced in Korea are circumventing the Order.² On April 12, 2023, Commerce published in the Federal Register its Preliminary Determination that imports of CWP completed in Vietnam using HRS produced in Korea are circumventing the Order.³ On May 15, 2023, Commerce extended the deadline for the final determination of this circumvention inquiry to August 4, 2023.⁴ On July 20, 2023, Commerce further extended the deadline for the final determination to November 2, 2023.⁵ For a summary of events that occurred since Commerce published the Preliminary Determination, as well as a full discussion of the issues raised by parties for consideration in the final determination, see the Issues and Decision Memorandum.⁶ The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

¹ See Notice of Antidumping Duty Orders: Certain Circular Welded Non-Alloy Steel Pipe from Brazil, the Republic of Korea (Korea), Mexico, and Venezuela, and Amendment to Final Determination of Sales at Less Than Fair Value: Certain Circular Welded Non-Alloy Steel Pipe from Korea, 57 FR 49453 (November 2, 1992) (Order or Korea Order).

² See Circular Welded Carbon Quality Steel Pipe from the People's Republic of China; Certain Circular Welded Non-Alloy Steel Pipe from the Republic of Korea; Certain Welded Carbon Steel Standard Pipes and Tubes from India; Certain Circular Welded Carbon Steel Pipes and Tubes from Taiwan; Certain Circular Welded Non-Alloy Steel Pipe from Taiwan; Light-Walled Rectangular Pipe and Tube from the People's Republic of China; Light-Walled Rectangular Pipe and Tube from the Republic of Korea; Light-Walled Welded Rectangular Carbon Steel Tubing from Taiwan: Initiation of Circumvention Inquiries on the Antidumping and Countervailing Duty Orders, 87 FR 47711 (August 4, 2022).

³ See Certain Circular Welded Non-Alloy Steel Pipe from the Republic of Korea: Preliminary Affirmative Determination of Circumvention of the Antidumping Duty Order, 88 FR 21989 (April 12, 2023) (Preliminary Determination), and accompanying Preliminary Decision Memorandum (PDM).

⁴ See Memorandum, “Extension of Deadline for Issuing Final Determinations in Circumvention Inquiries,” dated May 15, 2023.

⁵ See Memorandum, “Extension of Deadline for Issuing Final Determinations in Circumvention Inquiries,” dated July 20, 2023.

⁶ See Memorandum, “Issues and Decision Memorandum for the Final Affirmative Determination of Circumvention of the Antidumping Duty Order on Certain Circular Welded Non-Alloy Steel Pipe from the Republic of Korea,” dated concurrently with, and hereby adopted by, this notice (Issues and Decision Memorandum).

Scope of the Order

The products covered by the Order include certain welded carbon steel standard CWP with an outside diameter of 0.375 inch or more but not over 16 inches. For a full description of the scope of the Order, see the Issues and Decision Memorandum.

Merchandise Subject to the Circumvention Inquiry

This circumvention inquiry covers CWP completed in Vietnam using Korea-origin HRS and subsequently exported from Vietnam to the United States (inquiry merchandise).

Methodology

Commerce is conducting this circumvention inquiry in accordance with section 781(b) of the Tariff Act of 1930, as amended (the Act), and 19 CFR 351.226. See Preliminary Determination PDM for a full description of the methodology.⁷ We have continued to apply this methodology, without exception, and incorporate by reference this description of the methodology, for our final determination.⁸

⁷ See Preliminary Determination PDM at 5-23.

⁸ See Issues and Decision Memorandum at 4.

Determination of No Shipments

Based on the information provided by Vietnam Haiphong Hongyuan Machinery Manufactory Co., Ltd. (Vietnam Haiphong) in this circumvention inquiry, Commerce continues to find, as it did in the Preliminary Determination, that Vietnam Haiphong had no shipments of inquiry merchandise to the United States during the period of inquiry, January 1, 2017, through December 31, 2021.⁹

⁹ See Preliminary Determination PDM at 12; see also Issues and Decision Memorandum at Comments 2 and 3.

Analysis of Comments Received

All issues raised in the case and rebuttal briefs by parties in these inquiries are addressed in the Issues and Decision Memorandum. A list of the issues raised is attached to this notice at Appendix I.

Based on our analysis of the comments received from interested parties, we did not revise the Preliminary Determination, except for revisions to the certification language (see Appendix II), which we have modified in response to comments to allow parties to also use the certifications when their shipments of CWP were not produced using HRS.

Final Circumvention Determination

As detailed in the Issues and Decision Memorandum, Commerce determines that CWP completed in Vietnam using Korea-origin HRS and subsequently exported from Vietnam to the United States is circumventing the Order on a country-wide basis. As a result, in accordance with section 781(b) of the Act, we determine that the inquiry merchandise should be included within the scope of the Order. See the “Suspension of Liquidation and Cash Deposit Requirements” section, below, for details regarding suspension of liquidation and cash deposit requirements. See the “Certifications” and “Certification Requirements for Vietnam” sections, below, for details regarding the use of certifications.

Suspension of Liquidation and Cash Deposit Requirements

Based on the affirmative country-wide determination of circumvention for Korea, in accordance with 19 CFR 351.226(l)(3), we will direct U.S. Customs and Border Protection (CBP) to suspend liquidation and require a cash deposit of estimated duties on unliquidated entries of CWP completed in Vietnam using Korea-origin HRS, that were entered, or withdrawn from warehouse, for consumption on or after August 4, 2022, the date of publication of the initiation of this circumvention inquiry in the Federal Register.

CWP produced in Vietnam from HRS that is not of Korean origin is not subject to this inquiry. Therefore, cash deposits are not required for such merchandise under the Korea Order. However, Commerce finds that CWP completed in Vietnam using the People's Republic of China (China)-origin HRS is circumventing the AD and countervailing duty (CVD) orders on CWP from China, and certain welded carbon steel standard pipes and tubes (pipe and tube) from India completed in Vietnam using India-origin HRS are circumventing the AD order on pipe and tube from India.¹⁰ Imports of such merchandise are subject to certification requirements, and cash deposits may be required.

¹⁰ See the unpublished Federal Register notices, “Certain Circular Welded Non-Alloy Steel Pipe from the People's Republic of China: Final Affirmative Determination of Circumvention of the Antidumping and Countervailing Duty Orders,” and “Certain Welded Carbon Steel Standard Pipes and Tubes from India: Final Affirmative Determination of Circumvention of the Antidumping Duty Order,” dated concurrently with this notice.

If an importer imports CWP from Vietnam and claims that the CWP was not produced from Korea-origin HRS, or alternately, claims that the CWP was produced using an input other the HRS, the importer and exporter are required to meet the certification and documentation requirements described in the “Certifications” and “Certification Requirements for Vietnam” sections below in order to not be subject to the Korea Order cash deposit requirements.

See Appendix II for the revised importer and exporter certifications, which we have modified in response to comments to allow parties to also use the certifications when their shipments of CWP were not produced using HRS.

Where no certification is provided for an entry, and AD/CVD orders from three countries (China, India, or Korea) potentially apply to that entry, Commerce intends to instruct CBP to suspend the entry and collect cash deposits at the rates applicable to the AD and CVD orders on CWP from China (i.e., the AD cash deposit rate established for the China-wide entity (85.55 percent) and the CVD cash deposit rate established for all-others (39.01 percent)) under the following third country CBP case numbers: A-552-009-000 and C-552-009-000.¹¹ This is to prevent evasion, given that the AD/CVD cash deposit rates established for CWP from China are higher than the AD cash deposit rates established for pipe and tube from India and CWP from Korea.

¹¹ See Notice of Antidumping Duty Order: Circular Welded Carbon Quality Steel Pipe from the People's Republic of China, 73 FR 42547 (July 22, 2008); and Circular Welded Carbon Quality Steel Pipe from the People's Republic of China: Notice of Amended Final Affirmative Countervailing Duty Determination and Notice of Countervailing Duty Order, 73 FR 42545 (July 22, 2008).

Where a certification is provided for the AD/CVD orders on CWP from China (stating that the merchandise was not produced using China-origin HRS or was produced using an input other than HRS), but no other certification is provided, then Commerce intends to instruct CBP to suspend the entry and collect cash deposits at the rate applicable to the AD order on pipe and tube from India (i.e., the AD cash deposit rate established for all-others (7.08 percent)) under the following third country case number: A-552-012-000.¹² This is to prevent evasion, given that the AD cash deposit rate established for pipe and tube from India is higher than the AD cash deposit rate established for CWP from Korea.

¹² See Antidumping Duty Order; Certain Welded Carbon Steel Standard Pipes and Tubes from India, 51 FR 17384 (May 12, 1986).

To enter inquiry merchandise (CWP produced in Vietnam using Korea-origin HRS) parties must provide certifications for the AD/CVD orders on CWP from China (stating that the merchandise was not produced using China-origin HRS) and for the AD order on pipe and tube from India (stating that the merchandise was not produced using India-origin HRS). Commerce established the following third country CBP case number in the Automated Commercial Environment (ACE) for entries of CWP produced in Vietnam using Korea-origin HRS: A-552-011-000. Commerce also established the following company-specific third-country CBP case number for SeAH Vina, for which Commerce made an affirmative determination of circumvention, for entries of CWP produced in Vietnam using Korea-origin HRS: A-552-011-001. The cash deposit rate will be the Korea AD all-others rate (i.e., 4.80 percent).¹³

¹³ See Korea Order.

These suspension of liquidation instructions will remain in effect until further notice.

Certified Entries

Entries for which the importer and exporter have met the certification requirements described below and in Appendix II to this notice will not be subject to suspension of liquidation, or the cash deposit requirements described above. Failure to comply with the applicable requisite certification requirements may result in the merchandise being subject to AD and CVD duties.

Certifications

To administer the country-wide affirmative determination of circumvention for Vietnam, Commerce established importer and exporter certifications which allow companies to certify that specific entries of CWP from Vietnam are not subject to suspension of liquidation or the collection of cash deposits pursuant to this country-wide affirmative determination of circumvention because the merchandise was not made with Korea-origin HRS or was made with an input other than HRS (see Appendix II to this notice).

Importers and exporters that claim that the entry of CWP is not subject to suspension of liquidation or the collection of cash deposits because the merchandise was not made with Korea-origin HRS or was made with an input other than HRS must complete the applicable certification and meet the certification and documentation requirements described below, as well as the requirements identified in the applicable certification.

Certification Requirements for Vietnam

Importers are required to complete and maintain the applicable importer certification, and maintain a copy of the applicable exporter certification, and retain all supporting documentation for both certifications. With the exception of the entries described below, the importer certification must be completed, signed, and dated by the time the entry summary is filed for the relevant entry. The importer, or the importer's agent, must submit both the importer's certification and the exporter's certification to CBP as part of the entry process by uploading them into the document imaging system (DIS) in ACE. Where the importer uses a broker to facilitate the entry process, the importer should obtain the entry summary number from the broker. Agents of the importer, such as a broker, however, are not permitted to certify on behalf of the importer.

Exporters are required to complete and maintain the applicable exporter certification and provide the importer with a copy of that certification and all supporting documentation (e.g., invoice, purchase order, production records, etc.). With the exception of the entries described below, the exporter certification must be completed, signed, and dated by the time of shipment of the relevant entries. The exporter certification should be completed by the party selling the CWP that was manufactured in Vietnam to the United States.

Additionally, the claims made in the certifications and any supporting documentation are subject to verification by Commerce and/or CBP. Importers and exporters are required to maintain the certifications and supporting documentation until the later of: (1) the date that is five years after the latest entry date of the entries covered by the certification; or (2) the date that is three years after the conclusion of any litigation in United States courts regarding such entries.

For all CWP from Vietnam that was entered, or withdrawn from warehouse, for consumption during the period August 4, 2022 (the date of initiation of this circumvention inquiry), through the date of publication of the Preliminary Determination in the Federal Register, where the entry has not been liquidated (and entries for which liquidation has not become final), the relevant certification should already be complete and signed.

For unliquidated entries (and entries for which liquidation has not become final) of CWP that were declared as non-AD type entries (e.g., type 01) and entered, or withdrawn from warehouse, for consumption in the United States during the period August 4, 2022 (the date of initiation of these circumvention inquiries), through the date of publication of the Preliminary Determination in the Federal Register, for which none of the above certifications may be made, importers must file a Post Summary Correction with CBP, in accordance with CBP's regulations, regarding conversion of such entries from non-AD type entries to AD type entries (e.g., type 01 to type 03). Importers should report those AD type entries using the third country CBP case numbers identified in the “Suspension of Liquidation and Cash Deposit Requirements” section, above. The importer should post cash deposits on those entries consistent with the regulations governing post summary corrections that require payment of additional duties, including AD/CVD duties.

If it is determined that an importer or exporter has not met the certification and related documentation requirements for certain entries, Commerce intends to instruct CBP to suspend, pursuant to this country-wide affirmative determination of circumvention and the Order,¹⁴ all unliquidated entries for which these requirements were not met and require the importer to post applicable cash deposits equal to the rates noted above.

¹⁴ See Order.

Opportunity To Request an Administrative Review

Each year during the anniversary month of the publication of an AD or CVD order, finding, or suspended investigation, an interested party, as defined in section 771(9) of the Act, may request, in accordance with 19 CFR 351.213, that Commerce conduct an administrative review of that AD or CVD order, finding, or suspended investigation. An interested party who would like Commerce to conduct an administrative review should wait until Commerce announces via the Federal Register the next opportunity to request a review during the anniversary month of the publication of the AD order to submit such requests. The anniversary month for this Order is November.

Administrative Protective Order

This notice will serve as the only reminder to all parties subject to administrative protective order (APO) of their responsibility concerning the destruction of proprietary information disclosed under APO in accordance with 19 CFR 351.305(a)(3). Timely written notification of the return or destruction of APO materials or conversion to judicial protective order is hereby requested. Failure to comply with the regulations and the terms of an APO is a sanctionable violation.

Notification to Interested Parties

This determination is issued and published in accordance with section 781(b) of the Act and 19 CFR 351.226(g)(2).

Dated: November 2, 2023.
Abdelali Elouaradia,
Deputy Assistant Secretary for Enforcement and Compliance.

Appendix I

List of Topics Discussed in the Issues and Decision Memorandum

I. Summary

II. Background

III. Scope of the Order

IV. Merchandise Subject to the Circumvention Inquiry

V. Period of Circumvention Inquiry

VI. Changes from the Preliminary Determination

VII. Discussion of the Issues

Comment 1: Conflict Regarding the Timing of Certification Requirements

Comment 2: Clarification in the Certification and Cash Deposit Instructions Concerning the Inclusion of HRS Further Processed in Vietnam Through a Cold-Rolling or Galvanizing Process

Comment 3: Certification Requirements for Vietnam Haiphong

Comment 4: Whether Commerce Is Bound by its Previous Determination That SeAH VINA's Exports of Pipe Produced Using Imported HRS Are Products of Vietnam

Comment 5: Whether Commerce May Impose Antidumping or Countervailing Duties in the Absence of Evidence of Injurious Dumping or Subsidies on SeAH VINA's Pipe Exports

Comment 6: Whether the Production of Pipe from Imported HRS Constitutes “Assembly or Completion” within the Meaning of the Statute

Comment 7: Whether the Process of Completion of Pipe in Vietnam Is Minor or Insignificant

Comment 8: Whether Commerce Properly Considered the Lack of Affiliations

Comment 9: Whether Commerce Properly Considered the Pattern of Trade and Sourcing

VIII. Recommendation

Appendix II

1. Certifications

Importer Certification

I hereby certify that:

A. My name is {IMPORTING COMPANY OFFICIAL'S NAME} and I am an official of {IMPORTING COMPANY}, located at {ADDRESS OF IMPORTING COMPANY};

B. I have direct personal knowledge of the facts regarding the importation into the Customs territory of the United States of certain circular welded non-alloy steel pipe (CWP) produced in Vietnam that entered under entry summary number(s), identified below, and are covered by this certification. “Direct personal knowledge” refers to facts the certifying party is expected to have in its own records. For example, the importer should have direct personal knowledge of the importation of CWP, including the exporter's and/or foreign seller's identity and location;

C. If the importer is acting on behalf of the first U.S. customer, include the following sentence as paragraph C of this certification:

The CWP covered by this certification was imported by {IMPORTING COMPANY} on behalf of {U.S. CUSTOMER}, located at {ADDRESS OF U.S. CUSTOMER};

If the importer is not acting on behalf of the first U.S. customer, include the following sentence as paragraph C of this certification:

{NAME OF IMPORTING COMPANY} is not acting on behalf of the first U.S. customer.

D. The CWP covered by this certification was shipped to {NAME OF PARTY IN THE UNITED STATES TO WHOM THE MERCHANDISE WAS FIRST SHIPPED}, located at {U.S. ADDRESS TO WHICH MERCHANDISE WAS SHIPPED}.

E. I have personal knowledge of the facts regarding the production of the imported products covered by this certification. “Personal knowledge” includes facts obtained from another party, (e.g., correspondence received by the importer (or exporter) from the producer regarding the source of hot-rolled steel (HRS) or an input other than HRS used to produce the imported CWP);

F. This certification applies to the following entries (repeat this block as many times as necessary):

Entry Summary #:

Entry Summary Line Item #:

Foreign Seller:

Foreign Seller's Address:

Foreign Seller's Invoice #:

Foreign Seller's Invoice Line Item #:

Country of Origin of HRS: State “N/A” for “Country of Origin of HRS” if the CWP covered by this certification was produced using inputs other than HRS.

Producer:

Producer's Address:

G. The CWP covered by this certification does not contain HRS produced in Korea;

H. I understand that {IMPORTING COMPANY} is required to maintain a copy of this certification and sufficient documentation supporting this certification (i.e., documents maintained in the normal course of business, or documents obtained by the certifying party, for example, certificates of origin, product data sheets, mill test reports, productions records, invoices, etc.) until the later of: (1) the date that is five years after the date of the latest entry covered by the certification; or (2) the date that is three years after the conclusion of any litigation in the United States courts regarding such entries;

I. I understand that {IMPORTING COMPANY} is required to maintain a copy of the exporter's certification (attesting to the production and/or exportation of the imported merchandise identified above), and any supporting documentation provided to the importer by the exporter, until the later of: (1) the date that is five years after the date of the latest entry covered by the certification; or (2) the date that is three years after the conclusion of any litigation in United States courts regarding such entries;

J. I understand that {IMPORTING COMPANY} is required to submit a copy of the importer and exporter certifications as part of the entry summary by uploading them into the document imaging system (DIS) in ACE, and to provide U.S. Customs and Border Protection (CBP) and/or the U.S. Department of Commerce (Commerce) with the importer certification, and any supporting documentation, and a copy of the exporter's certification, and any supporting documentation provided to the importer by the exporter, upon request of either agency;

K. I understand that the claims made herein, and the substantiating documentation, are subject to verification by CBP and/or Commerce;

L. I understand that failure to maintain the required certification and supporting documentation, or failure to substantiate the claims made herein, or not allowing CBP and/or Commerce to verify the claims made herein, may result in a de facto determination that all entries to which this certification applies are within the scope of the antidumping duty (AD) order on CWP from Korea. I understand that such finding will result in:

(i) suspension of liquidation of all unliquidated entries (and entries for which liquidation has not become final) for which these requirements were not met;

(ii) the importer being required to post the cash deposits determined by Commerce; and

(iii) the importer no longer being allowed to participate in the certification process.

M. I understand that agents of the importer, such as brokers, are not permitted to make this certification;

N. This certification was completed and signed on, or prior to, the date of the entry summary if the entry date is more than 14 days after the date of publication of the notice of Commerce's preliminary determination of circumvention in the Federal Register. If the entry date is on or before the 14th day after the date of publication of the notice of Commerce's preliminary determination of circumvention in the Federal Register, this certification was completed and signed by no later than 45 days after publication of the notice of Commerce's preliminary determination of circumvention in the Federal Register.

O. I am aware that U.S. law (including, but not limited to, 18 U.S.C. 1001) imposes criminal sanctions on individuals who knowingly and willfully make material false statements to the U.S. government.

Signature

{NAME OF COMPANY OFFICIAL}

{TITLE OF COMPANY OFFICIAL}

{DATE}

Exporter Certification

The party that made the sale to the United States should fill out the exporter certification.

I hereby certify that:

A. My name is {COMPANY OFFICIAL'S NAME} and I am an official of {NAME OF FOREIGN COMPANY THAT MADE THE SALE TO THE UNITED STATES); located at {ADDRESS OF FOREIGN COMPANY THAT MADE THE SALE TO THE UNITED STATES);

B. I have direct personal knowledge of the facts regarding the production and exportation of the certain circular welded non-alloy steel pipe (CWP) for which sales are identified below. “Direct personal knowledge” refers to facts the certifying party is expected to have in its own records. For example, an exporter should have direct personal knowledge of the producer's identity and location;

C. The CWP covered by this certification was shipped to {NAME OF PARTY IN THE UNITED STATES TO WHOM MERCHANDISE WAS FIRST SHIPPED}, located at {U.S. ADDRESS TO WHICH MERCHANDISE WAS SHIPPED};

D. The CWP covered by this certification does not contain HRS produced in Korea;

E. This certification applies to the following sales to {NAME OF U.S. CUSTOMER}, located at {ADDRESS OF U.S. CUSTOMER} (repeat this block as many times as necessary):

Foreign Seller's Invoice # to U.S. Customer:

Foreign Seller's Invoice to U.S. Customer Line item #:

Producer Name:

Producer's Address:

Producer's Invoice # to Foreign Seller: (If the foreign seller and the producer are the same party, put NA here.)

Name of Producer of HRS: State “N/A” if the producer did not use HRS in the production of CWP.

Location (Country) of Producer of HRS: State “N/A” if the producer did not use HRS in the production of CWP.

F. The CWP covered by this certification was shipped to {NAME OF U.S. PARTY TO WHOM MERCHANDISE WAS SHIPPED}, located at {U.S. ADDRESS TO WHICH MERCHANDISE WAS SHIPPED};

G. I understand that {NAME OF FOREIGN COMPANY THAT MADE THE SALE TO THE UNITED STATES} is required to maintain a copy of this certification and sufficient documentation supporting this certification (i.e., documents maintained in the normal course of business, or documents obtained by the certifying party, for example, product data sheets, mill test reports, productions records, invoices, etc.) until the later of: (1) the date that is five years after the latest date of the entries covered by the certification; or (2) the date that is three years after the conclusion of any litigation in the United States courts regarding such entries;

H. I understand that {NAME OF FOREIGN COMPANY THAT MADE THE SALE TO THE UNITED STATES} is required to provide the U.S. importer with a copy of this certification and is required to provide U.S. Customs and Border Protection (CBP) and/or the U.S. Department of Commerce (Commerce) with this certification, and any supporting documents, upon request of either agency;

I. I understand that the claims made herein, and the substantiating documentation, are subject to verification by CBP and/or Commerce;

J. I understand that failure to maintain the required certification and supporting documentation, or failure to substantiate the claims made herein, or not allowing CBP and/or Commerce to verify the claims made herein, may result in a de facto determination that all sales to which this certification applies are within the scope of the antidumping duty order on CWP from Korea. I understand that such a finding will result in:

(i) suspension of all unliquidated entries (and entries for which liquidation has not become final) for which these requirements were not met;

(ii) the importer being required to post the cash deposits determined by Commerce; and

(iii) the seller/exporter no longer being allowed to participate in the certification process.

K. I understand that agents of the seller/exporter, such as freight forwarding companies or brokers, are not permitted to make this certification.

L. This certification was completed and signed, and a copy of the certification was provided to the importer, on, or prior to, the date of shipment if the shipment date is more than 14 days after the date of publication of the notice of Commerce's preliminary determination of circumvention in the Federal Register. If the shipment date is on or before the 14th day after the date of publication of the notice of Commerce's preliminary determination of circumvention in the Federal Register, this certification was completed and signed, and a copy of the certification was provided to the importer, by no later than 45 days after publication of the notice of Commerce's preliminary determination of circumvention in the Federal Register; and

M. I am aware that U.S. law (including, but not limited to, 18 U.S.C. 1001) imposes criminal sanctions on individuals who knowingly and willfully make material false statements to the U.S. government.

Signature

{NAME OF COMPANY OFFICIAL}

{TITLE OF COMPANY OFFICIAL}

{DATE}

[FR Doc. 2023-24802 Filed 11-8-23; 8:45 am]

BILLING CODE 3510-DS-P